DEPARTMENT OF AGRICULTURE

Agricultural Marketing Service

[No. LS-04-05]

Notice of Opportunity to Request a Soybean Referendum

AGENCY: Agricultural Marketing Service, USDA.

ACTION: Notice.

SUMMARY: The Agricultural Marketing Service (AMS) is announcing that soybean producers may request a referendum to determine if producers want a referendum on the Soybean Promotion and Research Order (Order) as authorized under the Soybean Promotion, Research, and Consumer Information Act (Act). If at least 10 percent (not in excess of one-fifth of which may be producers in any one State) of the 663,880 eligible producers, as determined by the Department of Agriculture (USDA), nationwide participate in the Request for Referendum a referendum will be held within 1 year from that determination. If results of the Request for Referendum indicate that a referendum is not supported, a referendum would not be conducted.

DATES: Soybean producers may request a referendum during a 4-week period beginning on May 3, 2004, and ending on May 28, 2004. To be eligible to participate in the Request for Referendum, producers must certify and provide supporting documentation that shows they, or the producer entity they are authorized to represent, paid an assessment at sometime between January 1, 2002, and December 31, 2003.

Form LS-51-1, Request for Referendum, may be obtained by mail, fax, or in person from the Farm Service Agency (FSA) county offices from May 3, 2004, through May 28, 2004. Form LS-51-1 may also be obtained via the Internet at http://www.ams.usda.gov/lsg/mpb/re-soy.htm during the same time period. Completed forms and supporting documentation must be returned to the appropriate county FSA offices by fax or in person no later than close of business May 28, 2004, or if returned by mail must be postmarked by midnight May 28, 2004.

FOR FURTHER INFORMATION CONTACT: Kenneth R. Payne, Chief; Marketing Programs Branch, Livestock and Seed Program; Agricultural Marketing Service (AMS), USDA, Room 2638-S; STOP 0251; 1400 Independence Avenue, SW., Washington, DC 20250-02541, on telephone number 202/720-1115, fax number 202/720-1125, or by e-mail at Kenneth.Payne@usda.gov or Phil Brockman; DAFO, USDA, FSA; STOP 0542; 1400 Independence Avenue, SW.; Washington DC 20250-0542, on telephone number 202/690-8034, fax number 202/720-5900, or by e-mail on Phil.Brockman@usda.gov.

SUPPLEMENTARY INFORMATION: In accordance with the Act (7 U.S.C. 6301 et seq.), this Notice announces the dates when the Request for Referendum will be conducted and the place where soybean producers may request a referendum on the Order. The Act provides that the Secretary, 5 years after the conduct of the initial referendum and every 5 years thereafter, shall give soybean producers the opportunity to request an additional referendum on the Order. The initial referendum was held in February 1994. The last opportunity for producers to request a referendum on the Order was October 1999. Only 17,970 eligible soybean producers completed valid requests—far short of the 60,082 required to trigger a referendum.

Individual producers and other producer entities will be provided the opportunity to request a referendum, at the county FSA office where FSA maintains and processes the producer's administrative farm records. For the producer not participating in FSA programs, the opportunity to request a referendum will be provided at the county FSA office serving the county where the producer owns or rents land. Participation in the Request for Referendum is not mandatory.

On March 23, 2004,USDA published in the Federal Register a final rule (69 FR 13458) that sets forth procedures that will be used in conducting the Request for Referendum. The final rule includes definitions, provisions for supervising the process for requesting a referendum, eligibility, procedures for requesting and completing the required form, required documentation showing that assessment was paid, where the Request for Referendum will be conducted, counting and reporting results, and disposition of the forms and records. Since the Request for Referendum will be conducted at the county FSA offices, FSA employees will assist AMS by determining eligibility, counting requests, and reporting results.

Pursuant to the Act, USDA is conducting the required Request for Referendum from May 3, 2004, through May 28, 2004.

To be eligible to participate in the Request for Referendum producers or the producer entity they are authorized to represent must certify and provide supporting documentation that shows they paid an assessment sometime between January 1, 2002, and December 31, 2003.

Form LS-51-1 may be requested in person, by mail, or by facsimile from May 3, 2004, through May 28, 2004. Form LS-51-1 may also be obtained via the Internet at http://www.ams.usda.gov/lsg/mpb/re-soy.htm during the same 4-week period. Individual producers and other producer entities would request a referendum at the county FSA office where FSA maintains and processes the producer's, corporation's, or other entity's administrative farm records. For the producer, corporation, or other entity not participating in FSA programs, the opportunity to request a referendum would be provided at the county FSA office serving the county where the producer, corporation, or other entity owns or rents land.

Producers can determine the location of county FSA offices by contacting (1) the nearest FSA office, (2) the State FSA office, or (3) through an online search of FSA's Web site at http://www.fsa.usda.gov/pas/default.asp. From the options available on this Web site select “Your local office,” click on your State, and click on the map to select a county.

Form LS-51-1 and supporting documentation may be returned in person, by mail, or facsimile to the appropriate county FSA office. Form LS-51-1, and accompanying documentation may be returned in person or by facsimile, must be received in the appropriate county office prior to the close of business of May 28, 2004. Form LS-51-1 and accompanying documentation returned by mail must be postmarked no later than midnight of May 28, 2004.

In accordance with the Paperwork Reduction Act of 1995 (44 U.S.C. 3501 et seq.), the information collection requirements made in connection with the Request for Referendum have been approved by the Office of Management and Budget (OMB) and assigned OMB control number 0581-0093.

Authority: 7 U.S.C. 6301-6311.

Dated: March 23, 2004.
A.J. Yates,
Administrator, Agricultural Marketing Service.

[FR Doc. 04-6767 Filed 3-23-04; 11:40 am]

BILLING CODE 3410-02-P